ENVIRONMENTAL PROTECTION AGENCY

40 CFR Part 302

[SW H-FRL-7241-8]

RIN 2050-AE88

Correction to Typographical Errors and Removal of Obsolete Language in Regulations on Reportable Quantities

Correction

In rule document 02-16866 beginning on page 45314, in the issue of Tuesday, July 9, 2002 make the following corrections:

1. On page 45314, in the third column, in the table of contents, in G.1.B., “c. Final RQ” should be moved to the next line before “Category Column”.

2. On page 45317, in Table 1., in the first column, in the 10th line, “2, 4, 5,-TP acid” should be moved to the next line.

3. On page 45317, in Table 1., in the second column, in the 12th line, “)” should read “)-”.

4. On page 45318, in Table 1., in the first column, in the 11th line from the bottom, “8alpha.” should read “8alpha,”.

5. On the same page, in the same table, in the same column, in the eighth line from the bottom, “8beta.” should read “8beta,”.

6. On the same page, in the same table, in the same column, in the fifth line from the bottom, “6beta.” should read “6beta,”.

7. On the same page, in the same table, in the same column, in the second line from the bottom, “6alpha.” should read “6alpha,”.

8. On page 45319, in Table 2., in the first column, in the first line, “***” should read “...”.

9. On the same page, in the same table, in the second column, in the fourth line, “***” should read “...”.

10. On the same page, in the same table, in the second column, in the seventh line, “redical” should read “radical”.

11. On the same page, in the same table, in the first column, in the eighth line, “***” should read “...”.

12. On the same page, in the same table, in the same column, in the same line, “smelting” should read “smelting.”.

13. On the same page, in the same table, in the same column, in the ninth line, “***” should read “...”.

14. On the same page, in the same table, in the same column, in the 10th line “***” should read “...”.

15. On the same page, in the same table, in the same column, in the 12th line, “***” should read “...”.

16. On the same page, in the same table, in the same column, in the 14th line, “***” should read “...”.

17. On the same page, in the same table, in the same column, in the 16th line, “***” should read “...”.

18. On the same page, in the same table, in the same column, in the 18th line, “***” should read “...”.

19. On page 45319, in the same table, in the second column, in the fifth line from the bottom, “***” should read “...”.

20. On page 45320, in Table 3., in the first column, in the fourth line, “n-2,3&” should read “n-2,3”.

21. On page 45322, in Table 302.4, in the second column titled, “CASRN”, in the fourth line, “107—20” should read “107—20—0”.

22. On the same page, in the same table, in the same column, in the 10th line, “5417—640—19—7” should read “640—19—7”.

23. On the same page, in the same table, in the same column, in the 11th line remove the “7”.

24. On page 45323, in Table 302.4, in the first column titled “Hazardous substance”, in the 24th line, “†Aroclor 1260” should read “Aroclor 1260”.

25. On the same page, in the same table, in the same column, in the 18th line from the bottom, “(1,1-dimethyl-2-58-5-propynol)-” should read “(1,1-dimethyl-2propynol)-”.

26. On page 45324, in Table 302.4, in the column titled “CASRN”, in the fifth line, “496-72-0” should read “496-72-0”.

27. On the same page, in the same table, in the same column, in the sixth line, “823-40-5” should read “823-40-5”.

28. On the same page, in the same table, in the same column, in the seventh line, “25376-45-8” should read “25376-45-8”.

29. On the same page, in the same table, in the 16th line from the bottom, “207--08-9” should read “207-08-9”.

30. On the same page, in the same table, in the column titled “RCRA waste No.”, in the 12th line from the bottom, delete the “-”.

31. On the same page, in the same table, in the column titled ““CASRN”, in the ninth line from the bottom, “191-24-2” should read “191-24-2”.

32. On the same page, in the same table, in the column titled, “Statutory code”, in the ninth line from the bottom, “-” should read “2”.

33. On the same page, in the same table, in the column titled, “RCRA waste No.”, in the 10th line from the bottom, delete the “—”.

34. On the same page, in the same table, in the column titled, “Hazardous substance”, in the eigth line from the bottom, “2H-1” should read “2H-1”.

35. On the same page, in the same table, in the column titled, “RCRA waste No.”, in the third line from the bottom, delete the “—”.

36. On page 45325, in Table 302.4, in the column titled, “CASRN”, in the 22nd line from the bottom, “13952-84-6” should read “13952-84-6”.

37. On page 45327, in Table 302.4, in the column titled, “CASRN”, in the 33rd line from the bottom, “589366-3” should read “5893-66-3”.

38. On the same page, in the same table, in the column titled, “Hazarous substance”, in the 12th line from the bottom, “6β” should read “6β-”.

39. On page 45328, in Table 302.4, in the column titled, “CASRN” in the 20th line “1194-1-65—6” should read “1194-65-6”.

40. On page 45332, in Table 302.4, in the column titled, “Hazardous substance”, in the sixth line, “Lead‡‡” should read “Lead††”.

41. On the same page, in the same table, in the same column, in the 21st line from the bottom remove, “Mercury” and add it to the line below.

42. On the same page, in the same table, in the column titled, “Statutory code”, in the 21st line from the bottom, “2,3,4”. should be moved to the line below.

43. On the same page, in the same table, in the column titled, “RCRA waste No.”, in the 19th line from the bottom, “U151” should be moved to the line below.

44. On the same page, in the same table, in the column titled, “Fianl RQ pounds (Kg), in the 18th line from the bottom, “ 1 (0.454)” should be moved to the line below.

45. On page 45333, in Table 302.4, in the column titled, “Hazardous substance”, in the 16th line, “Oone” should read “one”.

46. On the same page, in the same table, in the column titled, “Hazardous substance”, in the seventh line from the bottom, “3.3‡” should read “3,3′ ”.

47. On the same page, in the same table, in the same column, in the same line, “1,1‡” should read “1,1′ ”.

48. On the same page, in the same column, in the same line, “4,4‡” should read “4,4′ ”.

49. On page 45334, in Table 302.4, in the column, titled “Hazardous substance, in the second line, “Nickel‡” should read “Nickel††”.

50. On page 45335, in Table 302.4, in the column titled, “Hazardous substance”, in the 13th line, “4 methylcarbamate (ester)” should read “methylcarbamate (ester)”.

51. On page 45350, in Appendix A to § 302.4, in the column titled, “CASRN”, in the fifth line, after “68122” add “

* * * * *

”.

52. On the same page, in the same table, in the same column, in the third line from the bottom, after “91667”, add “

* * * * *

”.

53. On page 45351, in Appendix A to §302.4, in the column titled, “CASRN”, directly beneath “92933” add “93721”.

[FR Doc. C2-16866 Filed 8-23-02; 8:45 am]

BILLING CODE 1505-01-D

GENERAL SERVICES ADMINISTRATION

Notice of Availability; Environmental Assessment and Finding of No Significant Impact for the Proposed Master Development Plan for the U.S. Consumer Product Safety Commission, Gaithersburg, MD

Correction

In notice document 02-21072 beginning on page 53945 in the issue of Tuesday, August 20, 2002, make the following corrections:

1. On page 53946, in the first column, under FOR FURTHER INFORMATION CONTACT:, in the last line the e-mail address “ernest.hall@hsa.gov” should read “ernest.hall@gsa.gov”.

2. On the same page, in the same column, in the fourth paragraph, in the last line the e-mail address “ernest.hall@hsa.gov” should read “ernest.hall@gsa.gov”.

[FR Doc. C2-21072 Filed 8-23-02; 8:45 am]

BILLING CODE 1505-01-D